NATIONAL SCIENCE FOUNDATION

Sunshine Act Meetings; National Science Board

The National Science Board (NSB), pursuant to NSF regulations (45 CFR part 614), the National Science Foundation Act, as amended, (42 U.S.C. 1862n-5), and the Government in the Sunshine Act (5 U.S.C. 552b), hereby gives notice of the scheduling of meetings for the transaction of NSB business as follows:

DATE AND TIME: February 21, 2017 from 8:00 a.m. to 5:20 p.m., and February 22, 2017 from 8:15 a.m. to 2:20 p.m. EST.

PLACE: These meetings will be held at the NSF headquarters, 4201 Wilson Blvd., Room 1235, Arlington, VA 22230. All visitors must contact the Board Office (call 703-292-7000 or send an email to nationalsciencebrd@nsf.gov) at least 24 hours prior to the meeting and provide your name and organizational affiliation. Visitors must report to the NSF visitor's desk in the lobby of the 9th and N. Stuart Street entrance to receive a visitor's badge. Due to recent security changes, visitors should allot some extra time for the entrance process.

WEBCAST INFORMATION: Public meetings and public portions of meetings will be webcast. To view the meetings, go to http://www.tvworldwide.com/events/nsf/170221 and follow the instructions.

UPDATES: Please refer to the NSB Web site for additional information. Meeting information and schedule updates (time, place, subject matter, and status of meeting) may be found at http://www.nsf.gov/nsb/meetings/notices.jsp.

NOTICE RE MEETING TIME FLEXIBILITY: The NSB is conducting a pilot project to provide some flexibility around meeting times during the February 2017 meetings. After the first meeting of each day, actual meeting start and end times will be allowed to vary by as much as (but no more than) 15 minutes in either direction. As an example, if a 10:00 meeting finishes at 10:45, the meeting scheduled to begin at 11:00 may begin at 10:45 instead. Similarly, the 10:00 meeting may be allowed to run over by as much as 15 minutes if the meeting chair decides the extra time is warranted. The next meeting will start no later than 11:15. No meeting will start more than 15 minutes away from its originally scheduled start.

NSB is implementing this pilot to improve the quality of NSB and committee discussions, and to make more effective and efficient use of NSB members' limited in-person meeting time. In prior meetings, the NSB has experienced unusable time after short meetings, and has rushed the discussion of important matters to meet the clock.

After the meeting day has begun, please arrive at the NSB boardroom or check the webcast 15 minutes before the scheduled start time of the meeting you wish to observe. Members of the public are invited to provide feedback on the scheduling flexibility pilot. Contact: nationalsciencebrd@nsf.gov.

AGENCY CONTACT: Brad Guttierez, bgutierr@nsf.gov, 703-292-7000.

PUBLIC AFFAIRS CONTACT: Nadine Lymn, nlymn@nsf.gov, 703-292-2490.

STATUS: Portions open; portions closed.

Open Sessions

February 21, 2017

8:00-8:30 a.m. Plenary introduction, NSB Chair and NSF Director Remarks

8:30-10:35 a.m. Committee on Awards and Facilities (A&F)

10:50-11:50 a.m. Committee on External Engagement (EE)

1:00-2:20 p.m. Committee on Oversight (CO)

2:30-3:50 p.m. Committee on National Science and Engineering Policy (SEP)

4:00-5:20 p.m. Committee on Strategy (CoS)

February 22, 2017

8:15-8:45 a.m. (A&F)

1:00-2:20 p.m. (Plenary)

Closed Sessions

February 22, 2017

8:45-9:25 a.m. (CoS)

9:40-10:55 a.m. (A&F)

10:55-11:10 a.m. (Plenary)

11:10-11:30 a.m. (Plenary Executive)

Matters To Be Discussed

Tuesday, February 21, 2017

Plenary Board Meeting

Open session: 8:00-8:30 a.m.

• NSB Chair's Opening Remarks

Announcement of New Member and Ceremonial Oath of Office

Overview of Major Issues for Meeting

• NSF Director's Remarks

• Announcement of New NSB Committees

Committee on Awards and Facilities

Open session: 8:30-10:35 a.m.

• Committee Chair's Opening Remarks

• ATLAS and CMS Detectors at the Large Hadron Collider

• CY 2017 Schedule of Planned Action and Information Items

• Discussion of Draft Committee Charge

• Antarctic Discussion and NSB Site Visit Report

• Review of NSB's Delegation of Award Authority

• Approach for Risk Management at NSF

Committee on External Engagement (EE)

Open session: 10:50-11:50 a.m.

• Committee Chair's Opening Remarks

• Discussion of Draft Committee Charge

• Update on Ongoing Activities

• Update on New Legislation in the 114th Congress

• Transition to New Congress and Administration

Committee on Oversight (CO)

Open session: 1:00-2:20 p.m.

• Committee Chair's Opening Remarks

• Discussion of Draft Committee Charge

• Conclusion of the 2016 NSF Financial Statement Audit

• Inspector General's Update

• Chief Financial Officer's Update

• The Role of Committees of Visitors in Merit Review

• NSF's External Audit Resolution Process

Committee on National Science and Engineering Policy (SEP)

Open session: 2:30-3:50 p.m.

• Committee Chair's Opening Remarks

• Discussion of Draft Committee Charge

• Companion Brief on Career Pathways of STEM Ph.D.s

• Science and Engineering Indicators 2018 Production Update

• SEI 2018 Review Process Changes

• SEI 2018 Cover Artwork Selection

• Overview of Blue Collar STEM Concepts and Opportunities

Committee on Strategy (CoS)

Open session: 4:00-5:20 p.m.

• Committee Chair's Opening Remarks

• Discussion of Draft Committee Charge

• Discussion of Big Ideas:

Work at the Human Technology Frontier

Harnessing the Data Revolution

Matters To Be Discussed

Wednesday, February 22, 2017

Committee on Awards and Facilities (Continued)

Open session: 8:15-8:45 a.m.

• Engineering Feats Enable Cutting-Edge Science

Committee on Strategy (CoS)

Closed session: 8:45-9:25 a.m.

• Committee Chair's Opening Remarks

• Update on FY 2017 Budget

• Update on NSF FY 2018 Budget Request Development

Committee on Awards and Facilities

Closed Session: 9:40-10:55 a.m.

• Committee Chair's Opening Remarks

• Cornell High Energy Synchrotron Source (CHESS) Annual Update

• National Ecological Laboratories Operations (NEON) Operations and Maintenance Update

• Stampede 2: Operations and Maintenance for the Next Generation of Petascale Computing

• Antarctic Infrastructure Modernization for Science

• Status of Regional Class Research Vessel MREFC Project

Plenary Board

Closed session: 10:55-11:10 a.m.

• NSB Chair's Opening Remarks

• Approval of Prior Minutes

• Closed Committee Reports

Plenary Board (Executive)

Closed session: 11:10 a.m.-11:30 a.m.

• NSB Chair's Opening Remarks

• Approval of Prior Minutes

• Alan T. Waterman Award Recommendation

• Award Involving an NSB Member

Plenary Board

Open session: 1:00-2:20 p.m.

• NSB Chair's Opening Remarks

• Approval of Prior Minutes

• NSF Director's Remarks

• Enhancing Employee Engagement at NSF

• Open Committee Reports

• Vote: Revisions to NSB's Delegation of Authority

• Vote: Resolution Honoring Dr. Michael Van Woert for His Service to NSB

• Vote: Companion Brief on Career Pathways of STEM Ph.D.s

• Vote (expected): New Committee Charges

• NSB Chair's Closing Remarks

Meeting Adjourns: 2:20 p.m.

Chris Blair,
Executive Assistant, National Science Board Office.

[FR Doc. 2017-03279 Filed 2-14-17; 4:15 pm]

BILLING CODE 7555-01-P